STATE JUSTICE INSTITUTE

SJI Board of Directors Meeting, Notice

AGENCY: State Justice Institute.

ACTION: Notice of Meeting.

SUMMARY: The SJI Board of Directors will be meeting on Friday, September 5, 2014 at 1:00 p.m. The meeting will be held at the Supreme Court of Arkansas in Little Rock, Arkansas. The purpose of this meeting is to consider grant applications for the 4th quarter of FY 2014, and other business. All portions of this meeting are open to the public.

ADDRESSES: Supreme Court of Arkansas, 625 Marshall Street, Little Rock, Arkansas, 72201.

FOR FURTHER INFORMATION CONTACT: Jonathan Mattiello, Executive Director, State Justice Institute, 11951 Freedom Drive, Suite 1020, Reston, VA 20190, 571-313-8843, contact@sji.gov.

Jonathan D. Mattiello,
Executive Director.

[FR Doc. 2014-18786 Filed 8-7-14; 8:45 am]

BILLING CODE 6820-SC-P